NUCLEAR REGULATORY COMMISSION

[Docket No. 030-28641, License No. 42-23539-01AF, Department of the Air Force; Docket No. 040-08767, License No. SUC-1380, Department of the Army; Docket No. 030-29462, License No. 45-23645-01NA, Department of the Navy]

Receipt of Request for Action Under 10 CFR 2.206

Notice is hereby given that by petition dated June 1, 2000, Doug Rokke, Ph.D. (petitioner) has requested that the Nuclear Regulatory Commission (NRC) take action with regard to the Department of the Air Force, the Department of the Army, and the Department of the Navy. The petitioner requests a “formal NRC hearing to consider the revocation of the master DU [depleted uranium] license for the U.S. Department of Defense and all services, implementation of substantial fines and consideration of personal criminal liability.”

As the basis for this request, the petitioner states that “the continuing deliberate use of DU munitions during battle and during peacetime is resulting in serious health and environmental consequences,” according to documents and references in his possession.

The request is being treated pursuant to 10 CFR 2.206 of the Commission's regulations. The request has been referred to the Director of the Office of Nuclear Material Safety and Safeguards. As provided by Section 2.206, appropriate action will be taken on this petition within reasonable time. A copy of the petition is available for inspection at the Commission's Public Document Room at 2120 L Street, NW., Washington, DC 20003-1527.

For the Nuclear Regulatory Commission.
Dated at Rockville, Maryland this 8th day of September, 2000.
William F. Kane,
Director, Office of Nuclear Material Safety and Safeguards.

[FR Doc. 00-24018 Filed 9-18-00; 8:45 am]

BILLING CODE 7590-01-P